DEPARTMENT OF TRANSPORTATION

Federal Motor Carrier Safety Administration

[Docket No. FMCSA-2002-12844]

Qualification of Drivers; Exemption Applications; Vision

AGENCY: Federal Motor Carrier Safety Administration (FMCSA), DOT.

ACTION: Notice of applications for exemption from the vision standard; request for comments.

SUMMARY: This notice publishes the FMCSA's receipt of applications from 35 individuals for an exemption from the vision requirement in the Federal Motor Carrier Safety Regulations. If granted, the exemptions will enable these individuals to qualify as drivers of commercial motor vehicles (CMVs) in interstate commerce without meeting the vision standard prescribed in 49 CFR 391.41(b)(10).

DATES: Comments must be received on or before December 12, 2002.

ADDRESSES: You can mail or deliver comments to the U.S. Department of Transportation, Dockets Management Facility, Room PL-401, 400 Seventh Street, SW., Washington, DC 20590-0001. You can also submit comments at http://dms.dot.gov. Please include the docket number that appears in the heading of this document. You can examine and copy this document and all comments received at the same Internet address or at the Dockets Management Facility from 9 a.m. to 5 p.m., e.t., Monday through Friday, except Federal holidays. If you want us to notify you that we received your comments, please include a self-addressed, stamped envelope or postcard or print the acknowledgement page that appears after submitting comments online.

FOR FURTHER INFORMATION CONTACT: Ms. Sandra Zywokarte, Office of Bus and Truck Standards and Operations, (202) 366-2987, FMCSA, Department of Transportation, 400 Seventh Street, SW., Washington, DC 20590-0001. Office hours are from 7:45 a.m. to 4:15 p.m., e.t., Monday through Friday, except Federal holidays.

SUPPLEMENTARY INFORMATION:

Electronic Access and Filing

You may see all the comments online through the Document Management System (DMS) at: http://dmses.dot.gov/submit.

Background

Under 49 U.S.C. 31315 and 31136(e), the FMCSA may grant an exemption for a 2-year period if it finds “such exemption would likely achieve a level of safety that is equivalent to, or greater than, the level that would be achieved absent such exemption.” The statute also allows the agency to renew exemptions at the end of the 2-year period. The 35 individuals listed in this notice have recently requested an exemption from the vision requirement in 49 CFR 391.41(b)(10), which applies to drivers of CMVs in interstate commerce. Accordingly, the agency will evaluate the qualifications of each applicant to determine whether granting the exemption will achieve the required level of safety.

Qualifications of Applicants

1. Doris V. Adams

Mr. Adams, age 65, has had glaucomatous optic nerve atrophy in his right eye since 1988. His visual acuity is count fingers in the right eye and 20/20 in the left. Following an examination in 2002, his ophthalmologist affirmed, “It is therefore my medical opinion that due to the stability of his overall visual function and his eye examination, that he has sufficient vision to continue to perform driving tasks related to operating a commercial vehicle.” In his application, Mr. Adams reported that he has driven tractor-trailer combinations for 30 years, accumulating 4.5 million miles. He holds a Class A commercial driver's license (CDL) from the State of Washington, and his driving record for the last 3 years shows no accidents or convictions for moving violations in a CMV.

2. Thomas E. Adams

Mr. Adams, 45, has counting fingers vision in his left eye due to an injury he sustained during infancy. His vision is 20/20 in the right eye. Following an examination in 2001, his ophthalmologist certified, “In my opinion Mr. Adams has sufficient vision and full visual field in his right eye to perform the driving tasks required to operate a commercial vehicle.” Mr. Adams reported that he has driven straight trucks for 25 years, accumulating 25,000 miles, and tractor-trailer combinations for 20 years, accumulating 1.5 million miles. He holds a Class A CDL from Indiana, and his driving record shows that he has had no accidents or convictions for traffic violations in a CMV during the last 3 years.

3. Rodger B. Anders

Mr. Anders, 45, has a history of alternating exotropia with nystagmus since birth. His best-corrected vision in the right eye is 20/60 and in the left, 20/40. An optometrist examined him in 2002 and certified, “Mr. Anders' visual deficiency is stable, and I feel he may operate a commercial vehicle safely.” Mr. Anders submitted that he has driven straight trucks for 16 years, accumulating 640,000 miles. He holds a Class A CDL from Maryland, and there are no accidents or convictions for moving violations in a CMV on his driving record for the last 3 years.

4. Thomas J. Boss

Mr. Boss, 33, has amblyopia in his right eye. His best-corrected visual acuity is 20/400 in the right eye and 20/20 in the left. Following an examination in 2002, his optometrist commented, “It is my opinion that Mr. Boss has sufficient vision to perform driving tasks that are required to operate a commercial vehicle.” Mr. Boss submitted that he has driven straight trucks for 14 years, accumulating 742,000 miles. He holds a Class B CDL from Illinois, and his driving record shows he has had no accidents or convictions for moving violations in a CMV during the last 3 years.

5. Jack W. Boulware

Mr. Boulware, 75, has a history of macular degeneration in his left eye for the last 6 years. His best-corrected visual acuity is 20/15 in the right eye and 20/40 in the left. Following an examination in 2002, his ophthalmologist certified, “I believe that this patient has sufficient vision to perform driving tasks required to operate a commercial vehicle.” In his application, Mr. Boulware indicated he has driven buses for 4 years, accumulating 114,000 miles. He holds a Class C CDL from Missouri, and his driving record for the last 3 years shows no accidents or convictions for moving violations in a CMV.

6. Mark L. Braun

Mr. Braun, 41, has amblyopia in his right eye. His best-corrected visual acuity is 20/100 in the right eye and 20/20 in the left. Following an examination in 2002, his ophthalmologist certified, “I believe he does have sufficient vision to perform the driving tasks to operate a commercial vehicle.” Mr. Braun submitted that he has driven straight trucks and tractor-trailer combinations for 17 years, accumulating 85,000 miles in the former and 850,000 miles in the latter. He holds a Class A CDL from the State of Washington, and his driving record shows he has had no accidents or convictions for moving violations in a CMV in the last 3 years.

7. Howard F. Breitkreutz

Mr. Breitkreutz, 53, lost his right eye in 1969 due to trauma. He has visual acuity of 20/20 in the left eye. An optometrist who examined him in 2002 certified, “Based on our examination findings, my medical opinion is that he does have sufficient vision to safely operate a commercial vehicle and can perform the necessary driving tasks required.” Mr. Breitkreutz submitted that he has operated straight trucks and tractor-trailer combinations for 4 years, accumulating 20,000 miles in each. He holds a Class A CDL from Minnesota, and his driving record shows he has had no accidents or convictions for traffic violations in a CMV for the last 3 years.

8. Ryan J. Christensen

Mr. Christensen, 29, has amblyopia in his left eye. His visual acuity is 20/15 corrected in the right eye and light perception in the left. An optometrist examined him in 2002 and certified, “Ryan appears to have sufficient visual fields to operate a commercial vehicle. His right eye provides good central vision and the combination of fields allows at least reasonable total field coverage.” Mr. Christensen reported that he has driven straight trucks for 1 year, accumulating 7,000 miles, and tractor-trailer combinations for 2 years, accumulating 108,000 miles. He holds a Class A CDL from Utah, and his driving record for the last 3 years shows no accidents or convictions for moving violations in a CMV.

9. Kenneth E. Coplan

Mr. Coplan, 74, lost his left eye due to an injury 60 years ago. His best-corrected visual acuity in the right eye is 20/20-1. An optometrist examined him in 2002, and certified, “He sees adequately well to operate a commercial vehicle.” In his application, Mr. Coplan indicated he has 10 years and 750,000 miles of experience in driving straight trucks and 30 years and 3.0 million miles of experience in driving tractor-trailer combinations. He holds a Class A CDL from Arizona, and his driving record shows no accidents or moving violations in a CMV during the last 3 years.

10. William T. Cummins

Mr. Cummins, 55, has only light perception in his right eye due to an injury in 1979. Following an examination in 2002, his optometrist noted that he has 20/20 vision and 120 degrees of visual field in the left eye and certified, “I see no reason why William Cummins would have any problems operating a commercial vehicle.” Mr. Cummins reported that he has driven straight trucks and tractor-trailer combinations for 20 years, accumulating 400,000 miles in the former and 300,000 miles in the latter. He holds a Class DMA CDL from Kentucky, and there are no accidents or convictions for moving violations in a CMV on his driving record for the last 3 years.

11. John E. Evenson

Mr. Evenson, 44, has amblyopia in his left eye. His best-corrected visual acuity is 20/20 in the right eye and 20/200 in the left. His ophthalmologist examined him in 2002 and certified, “In my opinion he has sufficient vision to operate a commercial vehicle while on intrastate and/or inter-state roadways.” In his application, Mr. Evenson reported that he has driven tractor-trailer combinations for 11 years, accumulating 913,000 miles. He holds a Wisconsin Class ABCD CDL. His driving record for the last 3 years shows that he has had one accident and no convictions for moving violations in a CMV. According to the police report, another driver pulled into his lane on his right side as he was preparing to make a wide right turn in a tractor-trailer combination. The police report indicated that as Mr. Evenson started the turn, he struck the other vehicle, which was also attempting to turn right. The other driver was cited for “Failure to Yield Right of Way.” Mr. Evenson was not cited.

12. Leon Frieri

Mr. Frieri, 45, has had a macular scar in his left eye for 6 years. His visual acuity is 20/20 in the right eye and 20/200 in the left. His ophthalmologist examined him in 2002 and certified, “Mr. Frieri in my opinion has sufficient vision to perform the driving tasks required to operate a commercial vehicle.” Mr. Frieri submitted that he has driven straight trucks for 8 years, accumulating 280,000 miles. He holds a Class D driver's license from Massachusetts, and there are no CMV accidents or convictions for moving violations on his driving record for the last 3 years.

13. Wayne H. Holt

Mr. Holt, 28, has amblyopia of the left eye. His visual acuity is 20/20 in the right eye and 20/200 in the left. Following an examination in 2002, his optometrist certified, “Wayne does have sufficient vision to perform the driving ability to operate a commercial vehicle.” Mr. Holt submitted that he has operated straight trucks and tractor-trailer combinations for 3 years, accumulating 15,000 miles in each. He holds a Class A CDL from Utah, and he has had no accidents or convictions for traffic violations in a CMV for the last 3 years, according to his driving record.

14. Steven C. Humke

Mr. Humke, 49, lost his left eye due to an accident approximately 22 years ago. His best-corrected visual acuity is 20/15 in the right eye. An optometrist who examined him in 2001 stated, “I certify that in my own medical opinion, Steve Humke has sufficient vision to perform the driving tasks required to operate a commercial vehicle.” Mr. Humke submitted that he has driven tractor-trailer combinations for 25 years, accumulating 2.3 million miles. He holds a Class A CDL from Iowa, and his driving record for the past 3 years shows no accidents or convictions for moving violations in a CMV.

15. Leon E. Jackson

Mr. Jackson, 54, has had a blind right eye due to trauma since the age of 8. His best-corrected vision is 20/15 in the left eye. An optometrist who examined him in 2002 certified, “I believe he has adapted to his deficiency and would be able visually to operate a commercial vehicle.” Mr. Jackson reported that he has operated tractor-trailer combinations for 30 years, accumulating 3.7 million miles. He holds a Class AM CDL from Georgia, and his driving record for the last 3 years shows he has had no accidents or convictions for moving violations in a CMV.

16. Neil W. Jennings

Mr. Jennings, 33, lost his left eye in 1985 due to an injury. His best-corrected visual acuity is 20/20 in the right eye. An ophthalmologist examined him in 2001 and certified, “It is my medical opinion that Mr. Neil Wade Jennings has sufficient vision, both by acuity and visual field, to perform the driving tasks required to operate a commercial vehicle.” According to Mr. Jennings' application, he has driven straight trucks for 16 years, accumulating 32,000 miles, and tractor-trailer combinations for 6 years, accumulating 330,000 miles. He holds a Class A CDL from Missouri. His driving record shows he has had no accidents or convictions for traffic violations in a CMV for the last 3 years.

17. Jimmy C. Killian

Mr. Killian, 42, has amblyopia in his right eye. His best-corrected visual acuity is 20/100 in the right eye and 20/20 in the left. An optometrist examined him in 2002 and certified, “It is my opinion that Mr. Killian has sufficient vision to perform the driving tasks required for a commercial vehicle.” Mr. Killian stated that he has driven straight trucks for 13 years, accumulating 515,000 miles. He holds a North Carolina Class C driver's license, and his driving record for the last 3 years shows no accidents or convictions for moving violations in a CMV.

18. Craig M. Landry

Mr. Landry, 33, has amblyopia in his right eye. His best-corrected visual acuity is 20/100 in the right eye and 20/20 in the left. An ophthalmologist who examined him in 2002 certified, “Mr. Landry's vision and visual fields are more than sufficient to perform the driving tasks required to operate a commercial vehicle.” Mr. Landry reported that he has driven straight trucks for 6 years, accumulating 162,000 miles. He holds a Class D chauffeur's license from Louisiana, and his driving record for the last 3 years shows no accidents or convictions for moving violations in a CMV.

19. Earl E. Louk

Mr. Louk, 46, has amblyopia in his right eye. His best-corrected vision is 20/100 in the right eye and 20/20 in the left. His ophthalmologist examined him in 2002 and certified, “In my opinion, he has more than sufficient vision to perform his tasks of driving a commercial vehicle.” In his application, Mr. Louk indicated he has driven straight trucks for 25 years, accumulating 1.8 million miles. He holds a Class C driver's license from Pennsylvania, and his driving record for the past 3 years shows no accidents or convictions for traffic violations in a CMV.

20. William R. Mayfield

Mr. Mayfield, 47, has amblyopia in his left eye. His visual acuity in the right eye is 20/20 and in the left 20/200. An ophthalmologist examined him in 2002 and certified, “It is my medical opinion that he has sufficient vision to safely perform the driving tasks required to operate a commercial vehicle.” In his application, Mr. Mayfield stated he has 13 years and 1.3 million miles of experience in operating straight trucks, and 15 years and 1.5 million miles of experience in operating tractor-trailer combinations. He holds a Utah Class A CDL, and there are no accidents or convictions for moving violations in a CMV on his record for the last 3 years.

21. Thomas E. Mobley

Mr. Mobley, 55, lost his left eye due to an injury in 1952. His uncorrected visual acuity in the right eye is 20/20. Following an examination in 2002, his ophthalmologist stated, “In my opinion, with his monocular vision as good as it is in the right eye, he would have sufficient vision to perform his driving tasks of operating a commercial vehicle.” Mr. Mobley submitted that he has driven straight trucks for 17 years, accumulating 850,000 miles, and tractor-trailer combinations for 16 years, accumulating 1.9 million miles. He holds a Class AM CDL from Illinois. His driving record shows he has had no accidents or convictions for traffic violations in a CMV for the last 3 years.

22. Richard E. Nordhausen

Mr. Nordhausen, 42, has corneal and retinal scarring in his left eye due to an injury 30 years ago. His best-corrected visual acuity is 20/20 in the right eye and 20/400 in the left. Following an examination in 2002, his optometrist stated, “In my medical opinion, Rick has more than adequate vision to perform the driving tasks required to operate a commercial vehicle.” Mr. Nordhausen submitted that he has driven straight trucks for 2 years, accumulating 40,000 miles, and tractor-trailer combinations for 16 years, accumulating 400,000 miles. He holds a Class A CDL from the State of Washington. His driving record shows he had no accidents and one conviction for a traffic violation—Speeding—in a CMV for the last 3 years. He exceeded the speed limit by 15 mph.

23. James P. Oliver

Mr. Oliver, 47, has amblyopia in his right eye. His corrected visual acuity is 20/40-3 in the right eye and 20/20 in the left. Following an examination in 2001, his optometrist commented, “In my opinion he has more than sufficient vision to operate a commercial vehicle.” According to Mr. Oliver's application, he has driven straight trucks for 28 years, accumulating 448,000 miles, and tractor-trailer combinations for 5 years, accumulating 70,000 miles. He holds a Class A CDL from New York, and, according to his driving record, he has had no accidents or convictions for moving violations in a CMV during the last 3 years.

24. Jesse R. Parker

Mr. Parker, 30, has amblyopia in his right eye. His best-corrected visual acuity is 20/60 in the right eye and 20/20 in the left. His optometrist examined him in 2002 and stated, “It is my medical opinion that Jesse R. Parker has sufficient vision to perform driving tasks required to operate a commercial vehicle.” Mr. Parker reported that he has driven straight trucks for 5 years, accumulating 82,000 miles. He holds a Class A CDL from Mississippi, and his driving record for the last 3 years contains no accidents or convictions for moving violations in a CMV.

25. Tony E. Parks

Mr. Parks, 52, lost his right eye as a result of an accident in 1998. His visual acuity in the left eye is 20/20 with correction. Following an examination in 2002, his ophthalmologist stated, “I see no change in his ocular status and he appears to have sufficient vision to perform the driving tasks required to operate a commercial vehicle.” Mr. Parks reported that he has driven straight trucks for 10 years, accumulating 360,000 miles, and tractor-trailer combinations for 25 years, accumulating 1.8 million miles. He holds a Class A CDL from North Carolina, and his driving record shows that he has had no accidents or convictions for moving violations in a CMV for the last 3 years.

26. Andrew H. Rusk

Mr. Rusk, 43, lost his right eye in 1973 due to trauma. His best-corrected vision in the left eye is 20/20. Following an examination in 2002, his optometrist stated, “In reviewing this information, I feel that Mr. Rusk has sufficient vision to perform the driving tasks required to operate a commercial vehicle.” Mr. Rusk submitted that he has driven straight trucks for 6 years, accumulating 60,000 miles, and tractor-trailer combinations for 11 years, accumulating 550,000 miles. He holds an Illinois Class A CDL, and his driving record shows that during the last 3 years he has had no accidents or convictions for moving violations in a CMV.

27. Henry A. Shelton

Mr. Shelton, 48, has amblyopia in his right eye. His best-corrected vision is 20/100 in the right eye and 20/20 in the left. An ophthalmologist examined him in 2002 and stated, “In my opinion, this patient has sufficient vision to perform the driving tasks required to operate a commercial vehicle.” Mr. Shelton reported that he has driven straight trucks for 20 years, accumulating 442,000 miles. He holds an Alabama Class DV driver's license, and his driving record shows that he has had no accidents or convictions for moving violations in a CMV for the past 3 years.

28. Richard L. Sheppard

Mr. Sheppard, 50, has amblyopia in his left eye. His best-corrected visual acuity is 20/20 in the right eye and 20/400 in the left. An optometrist examined him in 2002, and commented, “In my opinion, Mr. Sheppard has sufficient vision in order to perform the driving task which is required as a part of his commercial license.” Mr. Sheppard submitted that he has operated straight trucks and tractor-trailer combinations for 25 years, accumulating 50,000 miles in the former and 62,000 miles in the latter. He holds a Class A CDL from Maryland, and his driving record shows he has had no accidents or convictions for moving violations in a CMV for the last 3 years.

29. Jayland R. Siebers

Mr. Siebers' right eye was removed in 2001 due to an anterior optic nerve meningioma that had progressed very slowly since 1993. His visual acuity is 20/20 in the left eye. Following an examination in 2002, his optometrist certified, “I see no specific contraindication to his continued driving record as it pertains to his ocular status. There is no specific contraindication against monocular drivers and he should be able to continue driving a commercial vehicle in the same manner as he has to this juncture.” According to his application, Mr. Siebers, age 46, has operated tractor-trailer combinations for 25 years, accumulating 3.0 million miles. He holds a Kansas Class A CDL, and his driving record for the last 3 years shows he has had no accidents or convictions for moving violations in a CMV.

30. Deborah A. Sigle

Ms. Sigle, 49, has amblyopia in her left eye. Her visual acuity is 20/20 in the right eye and hand motions in the left. Following an examination in 2001, her ophthalmologist certified, “The standards for operating a commercial vehicle vary from state to state. However, assuming that full binocular vision is not required, Ms. Sigle has normal vision in the right eye, and a normal binocular visual field, so this should be adequate to operate a commercial vehicle.” Ms. Sigle reported that she has driven straight trucks for 12 years, accumulating 480,000 miles. She holds a Class A CDL from New Jersey. Her driving record shows no accidents or convictions for moving violations in a CMV for the last 3 years.

31. David A. Stafford

Mr. Stafford, 58, is blind in the left eye due to trauma approximately 20 years ago. He has best-corrected visual acuity of 20/20 in the right eye. An optometrist examined him in 2002 and certified, “Mr. Stafford's left eye is stable and requires no treatment at this time. His right eye is completely healthy and allows him to safely and efficiently drive a commercial vehicle.” Mr. Stafford reported that he has driven straight trucks for 10 years, accumulating 250,000 miles, and tractor-trailer combination vehicles for 7 years, accumulating 175,000 miles. He holds a Class A CDL from Illinois. His driving record for the last 3 years shows no accidents or convictions for moving violations in a CMV.

32. Ronald A. Stevens

Mr. Stevens, 58, has amblyopia in his right eye. His best-corrected visual acuity is 20/400 in the right eye and 20/20+ in the left. Following an examination in 2002, his optometrist stated, “In my opinion, Ronald Stevens has sufficient vision to continue to perform the driving tasks required to operate a commercial vehicle.” Mr. Stevens reported that he has driven straight trucks and tractor-trailer combinations for 40 years, accumulating 480,000 miles in the former and 200,000 miles in the latter. He holds a Class A CDL from Ohio, and his driving record shows he has had no accidents or convictions for moving violations in a CMV over the last 3 years.

33. Kenneth E. Vigue, Jr.

Mr. Vigue, 39, has had a cataract in his right eye since he underwent surgery for a detached retina in 1987. His visual acuity is 20/400 in the right eye and 20/20 in the left. An optometrist examined him in 2002 and stated, “Due to the longstanding nature and stability of Mr. Vigue's ocular and visual conditions, he continues to have sufficient vision to perform the driving tasks required to operate a commercial vehicle.” Mr. Vigue, who holds a Class A CDL from the State of Washington, reported that he has been driving straight trucks and tractor-trailer combination vehicles for 18 years, accumulating 990,000 miles in the former and 180,000 in the latter. His driving record shows he has had no accidents and one conviction for a moving violation “ “Failure to Secure Load” “ in a CMV during the last 3 years.

34. David G. Williams

Mr. Williams, 49, is blind in the left eye due to an injury 40 years ago. His best-corrected visual acuity is 20/20 in the right eye. Following an examination in 2001, his optometrist certified, “In my opinion Mr. Williams has sufficient vision to perform the driving tasks required to operate a commercial vehicle.” Mr. Williams reported that he has operated straight trucks for 15 years, accumulating 225,000 miles. He holds an operator's license from the State of Washington, and his driving record for the last 3 years shows no accidents or convictions for moving violations in a CMV.

35. Richard A. Winslow

Mr. Winslow, 49, has amblyopia in his right eye. His best-corrected vision is 20/200 in the right eye and 20/20 in the left. Following an examination in 2002, his optometrist certified, “I believe he sees well enough to safely operate a commercial vehicle.” Mr. Winslow submitted that he has driven tractor-trailer combinations for 24 years, accumulating 3.1 million miles. He holds a Class A CDL from Minnesota, and his driving record for the last 3 years shows no accidents or convictions for traffic violations in a CMV.

Request for Comments

In accordance with 49 U.S.C. 31315 and 31136(e), the FMCSA requests public comment from all interested persons on the exemption petitions described in this notice. We will consider all comments received before the close of business on the closing date indicated earlier in the notice.

Issued on: November 5, 2002.
Brian M. McLaughlin,
Associate Administrator, Policy and Program Development.

[FR Doc. 02-28559 Filed 11-8-02; 8:45 am]

BILLING CODE 4910-EX-P